DEPARTMENT OF THE TREASURY

Office of Foreign Assets Control

Additional Designations of Terrorism-Related Blocked Persons

AGENCY: Office of Foreign Assets Control, Treasury.

ACTION: Notice.

SUMMARY: Notice is hereby given of the designation of additional persons whose property and interests in property have been blocked pursuant to Executive Order 13224 of September 23, 2001, pertaining to persons who commit, threaten to commit, or support terrorism.

DATES: The designations by the Secretary of the Treasury of additional persons whose property and interests in property have been blocked pursuant to Executive Order 13224 were variously effective on November 7, 2001, December 4, 2001, December 20, 2001, or January 9, 2002, as reflected in the separate lists set forth in this notice.

FOR FURTHER INFORMATION CONTACT: Office of Foreign Assets Control, Department of the Treasury, Washington, D.C. 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On September 23, 2001, President Bush issued Executive Order 13224 (the “Order”) imposing economic sanctions on persons who commit, threaten to commit, or support certain acts of terrorism. In an annex to the Order, President Bush identified 12 individuals and 15 entities whose assets are blocked pursuant to the Order (66 FR 49079, September 25, 2001). The property and interests in property of an additional 33 individuals and 6 entities were blocked pursuant to determinations by the Secretary of State and the Secretary of the Treasury effective October 12, 2001, referenced in a Federal Register document published by the Office of Foreign Assets Control, Department of the Treasury (66 FR 54404, October 26, 2001).

Further Additional Determinations. Pursuant to subsections 1(c) and 1(d) of the Order, further additional persons have been determined by the Secretary of the Treasury, in consultation with the Secretary of State and the Attorney General: to be owned or controlled by, or to act for or on behalf of, persons listed in the annex to the Order or designated pursuant to subsection 1(b), 1(c), or 1(d)(i) of the Order; to assist in, sponsor, or provide financial, material, or technological support for, or financial or other services to or in support of, acts of terrorism or persons listed on the annex or designated pursuant to the Order; or to be otherwise associated with persons listed on the annex to the Order or designated pursuant to subsection 1(b), 1(c), or (1)(d)(i) of the Order. These additional determinations are set forth in the lists below. In addition, further determinations made on October 31, 2001, December 18, 2001, and December 31, 2001, by the Secretary of State, in consultation with the Secretary of the Treasury and the Attorney General, under subsection 1(b) of the Order, are addressed in a separate notice published elsewhere in this issue of the Federal Register.

All property and interests in property of any listed person that are in the United States, that come within the United States, or that are or come within the possession or control of United States persons, including their overseas branches, are blocked, and may not be transferred, paid, exported, withdrawn or otherwise dealt in, and all transactions by U.S. persons or within the United States in property or interests in property of any listed person are prohibited unless otherwise authorized by the Office of Foreign Assets Control or exempted by statute.

The designations by the Secretary of the Treasury of further additional persons whose property and interests in property have been blocked pursuant to Executive Order 13224 were variously effective on the relevant date of determination (November 7, 2001, December 4, 2001, December 20, 2001 or January 9, 2002), as reflected under separate headings in the lists below.

In Section 10 of the Order, the President determined that because of the ability to transfer funds or assets instantaneously, prior notice to persons listed in the Annex to, or determined to be subject to, the Order who might have a constitutional presence in the United States, would render ineffectual the blocking and other measures authorized in the Order. The President further determined that no prior notification of a determination need be provided to any person who might have a constitutional presence in the United States. In furtherance of the objectives of the Order, the Secretary of the Treasury has determined that no prior notice should be afforded to the subjects of the determinations reflected in this notice because to do so would give the subjects that opportunity to evade the measures described in the Order and, consequently, render those measures ineffectual toward addressing the national emergency declared in the Order.

The lists of additional designations follow:

Designations of November 7, 2001 (Entities)

AARAN MONEY WIRE SERVICE INC., 1806 Riverside Avenue, 2nd Floor, Minneapolis, Minnesota.

AL BARAKA EXCHANGE L.L.C., P.O. Box 3313, Deira, Dubai, United Arab Emirates; P.O. Box 20066, Dubai, United Arab Emirates.

AL-BARAKAAT, Mogadishu, Somalia; Dubai, United Arab Emirates.

AL-BARAKAAT BANK, Mogadishu, Somalia.

AL-BARAKAAT BANK OF SOMALIA (BBS) (a.k.a. BARAKAAT BANK OF SOMALIA), Mogadishu, Somalia; Bossaso, Somalia.

AL-BARAKAAT GROUP OF COMPANIES SOMALIA LIMITED (a.k.a. AL-BARAKAT FINANCIAL COMPANY), P.O. Box 3313, Dubai, United Arab Emirates; Mogadishu, Somalia.

AL-BARAKAAT WIRING SERVICE, 2940 Pillsbury Avenue, Suite 4, Minneapolis, Minnesota 55408.

AL-BARAKAT FINANCE GROUP, Dubai, United Arab Emirates; Mogadishu, Somalia.

AL-BARAKAT FINANCIAL HOLDING COMPANY, Dubai, United Arab Emirates; Mogadishu, Somalia.

AL-BARAKAT GLOBAL TELECOMMUNICATIONS (a.k.a. BARAKAAT GLOBETELCOMPANY), P.O. Box 3313, Dubai, United Arab Emirates; Mogadishu, Somalia; Hargeysa, Somalia.

AL-BARAKAT INTERNATIONAL (a.k.a. BARACO CO.), Box 2923, Dubai, United Arab Emirates.

AL-BARAKAT INVESTMENTS, P.O. Box 3313, Deira, Dubai, United Arab Emirates.

AL TAQWA TRADE, PROPERTY AND INDUSTRY COMPANY LIMITED (f.k.a. AL TAQWA TRADE, PROPERTY AND INDUSTRY) (f.k.a. AL TAQWA TRADE, PROPERTY AND INDUSTRY ESTABLISHMENT) (f.k.a. HIMMAT ESTABLISHMENT), c/o Asat Trust Reg., Altenbach 8, 9490 Vaduz FL, Liechtenstein.

ASAT TRUST REG., Altenbach 8, 9490 Vaduz FL, Liechtenstein.

BANK AL TAQWA LIMITED (a.k.a. AL TAQWA BANK) (a.k.a. BANK AL TAQWA), P.O. Box N-4877, Nassau, Bahamas; c/o Arthur D. Hanna & Company, 10 Deveaux Street, Nassau, Bahamas.

BARAKA TRADING COMPANY, P.O. Box 3313, Dubai, United Arab Emirates.

BARAKAAT BOSTON, 266 Neponset Avenue, Apt 43, Dorchester, Massachusetts 02122-3224.

BARAKAAT CONSTRUCTION COMPANY, P.O. Box 3313, Dubai, United Arab Emirates.

BARAKAAT ENTERPRISE, 1762 Huy Road, Columbus, Ohio 43224-3550.

BARAKAAT GROUP OF COMPANIES, P.O. Box 3313, Dubai, United Arab Emirates; Mogadishu, Somalia.

BARAKAAT INTERNATIONAL, Hallbybacken 15, 70 Spanga, Sweden.

BARAKAAT INTERNATIONAL COMPANIES (BICO), Mogadishu, Somalia; Dubai, United Arab Emirates.

BARAKAAT INTERNATIONAL FOUNDATION, Box 4036, Spanga, Stockholm, Sweden; Rinkebytorget 1, 04 Spanga, Sweden.

BARAKAAT INTERNATIONAL, INC., 1929 South 5th Street, Suite 205, Minneapolis, Minnesota, U.S.A.

BARAKAAT NORTH AMERICA, INC., 925 Washington Street, Dorchester, Massachusetts; 2019 Bank Street, Ottawa, Ontario, Canada.

BARAKAAT RED SEA TELECOMMUNICATIONS, Bossaso, Somalia; Nakhiil, Somalia; Huruuse, Somalia; Raxmo, Somalia; Ticis, Somalia; Kowthar, Somalia; Noobir, Somalia; Bubaarag, Somalia; Gufure, Somalia; Xuuxuule, Somalia; Ala Aamin, Somalia; Guureeye, Somalia; Najax, Somalia; Carafaat, Somalia.

BARAKAAT TELECOMMUNICATIONS COMPANY LIMITED (a.k.a. BTELCO), Bakara Market, Dar Salaam Buildings, Mogadishu, Somalia; Kievitlaan 16, T'veld, Noord-Holland, The Netherlands.

BARAKAAT TELECOMMUNICATIONS COMPANY SOMALIA, LIMITED, P.O. Box 3313, Dubai, United Arab Emirates.

BARAKAT BANKS AND REMITTANCES, Mogadishu, Somalia; Dubai, United Arab Emirates.

BARAKAT COMPUTER CONSULTING (BCC), Mogadishu, Somalia.

BARAKAT CONSULTING GROUP (BCG), Mogadishu, Somalia.

BARAKAT GLOBAL TELEPHONE COMPANY, Mogadishu, Somalia; Dubai, United Arab Emirates.

BARAKAT POST EXPRESS (BPE), Mogadishu, Somalia.

BARAKAT REFRESHMENT COMPANY, Mogadishu, Somalia; Dubai, United Arab Emirates.

BARAKAT WIRE TRANSFER COMPANY, 4419 South Brandon Street, Seattle, Washington.

BARAKO TRADING COMPANY LLC, P.O. Box 3313, Dubai, United Arab Emirates.

GLOBAL SERVICE INTERNATIONAL, 1929 5th Street, Suite 204, Minneapolis, Minnesota.

HEYATUL ULYA, Mogadishu, Somalia.

NADA MANAGEMENT ORGANIZATION SA (f.k.a. AL TAQWA MANAGEMENT ORGANIZATION SA), Viale Stefano Franscini 22, CH-6900 Lugano TI, Switzerland.

PARKA TRADING COMPANY, P.O. Box 3313, Deira, Dubai, United Arab Emirates.

RED SEA BARAKAT COMPANY LIMITED, Mogadishu, Somalia; Dubai, United Arab Emirates.

SOMALI INTERNATIONAL RELIEF ORGANIZATION, 1806 Riverside Avenue, 2nd Floor, Minneapolis, Minnesota.

SOMALI INTERNET COMPANY, Mogadishu, Somalia.

SOMALI NETWORK AB (a.k.a. SOM NET AB), Hallybybacken 15, 70 Spanga, Sweden.

YOUSSEF M. NADA, Via Riasc 4, CH-6911 Campione d'Italia I, Switzerland.

YOUSSEF M. NADA & CO. GESELLSCHAFT M.B.H., Kaerntner Ring 2/2/5/22, 1010 Vienna, Austria.

Designations of November 7, 2001 (Individuals)

ABDULLKADIR, Hussein Mahamud, Florence, Italy.

ADEN, Abdirisak; Skaftingebacken 8, 163 67 Spanga, Sweden; DOB 01 June 1968.

ALI, Abbas Abdi, Mogadishu, Somalia.

ALI, Abdi Abdulaziz, Drabantvagen 21, 177 50 Spanga, Sweden; DOB 01 January 1955.

ALI, Yusaf Ahmed, Hallbybacken 15, 70 Spanga, Sweden; DOB: 20 November 1974.

AWEYS, Dahir Ubeidullahi, Via Cipriano Facchinetti 84, Rome, Italy.

AWEYS, Hassan Dahir (a.k.a. ALI, Sheikh Hassan Dahir Aweys) (a.k.a. AWES, Shaykh Hassan Dahir), DOB: 1935; Citizen: Somalia.

HIMMAT, Ali Ghaleb, Via Posero 2, CH-6911 Campione d'Italia, Switzerland; DOB: 16 June 1938; POB: Damascus, Syria; Citizen: Switzerland and Tunisia.

HUBER, Albert Friedrich Armand (a.k.a. HUBER, Ahmed), Mettmenstetten, Switzerland; DOB: 1927.

HUSSEIN, Liban, 925 Washington Street, Dorchester, Massachusetts; 2019 Bank Street, Ottawa, Ontario, Canada.

JAMA, Garad (a.k.a. NOR, Garad K.) (a.k.a. WASRSAME, Fartune Ahmed), 2100 Bloomington Avenue, Minneapolis, Minnesota; 1806 Riverside Avenue, 2nd Floor, Minneapolis, Minnesota; DOB: 26 June 1974.

JIM'ALE, Ahmed Nur Ali (a.k.a. JIMALE, Ahmad Ali) (a.k.a. JIM'ALE, Ahmad Nur Ali) (a.k.a. JUMALE, Ahmed Nur) (a.k.a. JUMALI, Ahmed Ali), P.O. Box 3312, Dubai, United Arab Emirates; Mogadishu, Somalia.

KAHIE, Abdullahi Hussein, Bakara Market, Dar Salaam Buildings, Mogadishu, Somalia.

MANSOUR, Mohamed, (a.k.a. AL-MANSOUR, Dr. Mohamed), Ob. Heslibachstr. 20, Kusnacht, Switzerland; Zurich, Switzerland; DOB: 1928; POB: Egypt or United Arab Emirates.

MANSOUR-FATTOUH, Zeinab, Zurich, Switzerland.

NADA, Youssef, (a.k.a. NADA, Youssef M.) (a.k.a. NADA, Youssef Mustafa), Via Arogno 32, 6911 Campione d'Italia, Italy; Via Per Arogno 32, CH-6911 Campione d'Italia, Switzerland; Via Riasc 4, CH-6911 Campione d'Italia I, Switzerland; DOB: 17 May 1931 or 17 May 1937; POB: Alexandria, Egypt; Citizen: Tunisia.

Designations of December 4, 2001

AL-AQSA ISLAMIC BANK (a.k.a. AL-AQSA AL-ISLAMI BANK), P.O. Box 3753 al-Beireh, West Bank; Ramallah II 970, West Bank.

BEIT EL-MAL HOLDINGS (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. PALESTINIAN ARAB BEIT EL MAL CORPORATION, LTD.), P.O. Box 662, Ramallah, West Bank.

HOLY LAND FOUNDATION FOR RELIEF AND DEVELOPMENT (f.k.a. OCCUPIED LAND FUND), 525 International Parkway, Suite 509, Richardson, Texas 75081, U.S.A.; P.O. Box 832390, Richardson, Texas 75083, U.S.A.; 9250 S. Harlem Avenue, Bridgeview, Illinois, U.S.A.; 345 E. Railway Avenue, Paterson, New Jersey 07503, U.S.A.; 12798 Rancho Penasquitos Blvd., Suite F, San Diego, California 92128 U.S.A.; Hebron, West Bank; Gaza; and other locations within the United States; U.S. FEIN: 95-4227517.

Designations of December 20, 2001 (Entity)

UMMAH TAMEER E-NAU (UTN), (a.k.a. Ummah Tameer I-Nau; a.k.a. Ummah Tamir I-Nau; a.k.a. Ummah Tamir E-Nau; a.k.a. Reconstruction of the Muslim Ummah; a.k.a. Reconstruction of the Islamic Community; a.k.a. Foundation for Construction; a.k.a. Reconstruction Foundation; a.k.a. Nation Building; a.k.a. Ummat Tamir-I-Pau; a.k.a. Ummat Tamir E-Nau), Street 13, Wazir Akbar Khan, Kabul, Afghanistan; 60-C, Nazim Ud Din Road, F 8/4 Islamabad, Pakistan.

Designations of December 20, 2001 (Individuals)

MAHMOOD, Sultan Bashir-Ud-Din (a.k.a. MAHMOOD, Sultan Bashiruddin; a.k.a. MEHMOOD, Dr. Bashir Uddin; a.k.a. MEKMUD, Sultan Baishiruddin), Street 13, Wazir Akbar Khan, Kabul, Afghanistan; alt. DOB 1937; alt. DOB 1938; alt. DOB 1939; alt. DOB 1940; alt. DOB 1941; alt. DOB 1942; alt. DOB 1943; alt. DOB 1944; alt. DOB 1945; nationality Pakistani.

MAJEED, Abdul (a.k.a. MAJEED, Chaudhry Abdul; a.k.a. MAJID, Abdul); DOB 15 April 1939; alt. DOB 1938; nationality Pakistani.

TUFAIL, Mohammed (a.k.a. TUFAIL, S.M.; a.k.a. TUFAIL, Sheik Mohammed); nationality Pakistani.

Designations of January 9, 2002 (Entities)

AFGHAN SUPPORT COMMITTEE (ASC) (a.k.a. AHYA UL TURAS; a.k.a. JAMIAT AYAT-UR-RHAS AL ISLAMIA; a.k.a. JAMIAT IHYA UL TURATH AL ISLAMIA; a.k.a. LAJNAT UL MASA EIDATUL AFGHANIA) Grand Trunk Road, near Pushtoon Garhi Pabbi, Peshawar, Pakistan; Cheprahar Hadda, Mia Omar Sabaqah School, Jalalabad, Afghanistan.

REVIVAL OF ISLAMIC HERITAGE SOCIETY (RIHS) (a.k.a. JAMIA IHYA UL TURATH; a.k.a. JAMIAT IHIA AL-TURATH AL-ISLAMIYA; a.k.a. REVIVAL OF ISLAMIC SOCIETY HERITAGE ON THE AFRICAN CONTINENT) Pakistan office; Afghanistan office; (office in Kuwait is NOT designated).

Designations of January 9, 2002 (Individuals)

AL-JAZIRI, Abu Bakr; Peshawar, Pakistan; nationality Algerian (individual).

AL-LIBI, Abd al-Mushin (a.k.a. ABU BAKR, Ibrahim Ali Muhammad) (individual).

Dated: January 15, 2002.
Loren L. Dohm,
Acting Director, Office of Foreign Assets Control.

Approved: January 23, 2002.
Jimmy Gurulé,
Under Secretary (Enforcement), Department of the Treasury.

[FR Doc. 02-3291 Filed 3-14-02; 3:48 pm]

BILLING CODE 4810-25-P